DEPARTMENT OF ENERGY

Federal Energy Regulatory Commission

[Project No. 199-205]

South Carolina Public Service Authority; Notice of Intent To Prepare an Environmental Impact Statement

July 7, 2006.

On March 15, 2004, the South Carolina Public Service Authority (Public Service) filed an application for a new license for the continued operation of the 134.52-megawatt Santee Cooper Hydroelectric Project (FERC No. 199-205). The project is located on the Santee and Cooper Rivers in Berkeley, Calhoun, Clarendon, Orangeburg, and Sumter Counties, South Carolina. The project does not occupy any Federal lands.

In accordance with the National Environmental Policy Act (NEPA) and the Commission's regulations, Commission staff held public scoping meetings for the Santee Cooper Hydroelectric Project on May 17, 2005, in Moncks Corner, South Carolina, and on May 18, 2005, in Manning, South Carolina. Additionally, Commission staff held an agency scoping meeting on May 19, 2005, in Moncks Corner, South Carolina. Commission staff, state, Federal, and local agencies, and the public participated in the meetings. These scoping meetings were used to define the issues and alternatives addressed in Public Service's application.

Based on comments received, since the scoping meeting, Commission staff has determined that licensing the Santee Cooper Hydroelectric Project could constitute a major federal action significantly affecting the quality of the human environment. Therefore, staff intends to prepare an Environmental Impact Statement (EIS) for the project.

The staff's EIS will objectively consider both site-specific and cumulative environmental impacts of the project and reasonable alternatives, and will include economic and engineering analyses.

A draft EIS will be issued and circulated for review by all interested parties. All comments filed on the draft EIS will be analyzed by the staff and considered in the final EIS. The staff's conclusions and recommendations will be available for the consideration of the Commission in reaching its final licensing decision.

This notice informs all interested individuals, organizations, and agencies with environmental expertise and concerns, that: (1) The Commission staff has decided to prepare an EIS; and (2) the scoping conducted on the Santee Cooper Hydroelectric Project by Commission staff and comments filed with the Commission on the application will be taken into account in the EIS.

Any questions regarding this notice may be directed to Monte Terhaar at (202) 502-6035, or via e-mail at monte.terhaar@ferc.gov.

Magalie R. Salas,
Secretary.

[FR Doc. E6-11181 Filed 7-13-06; 8:45 am]

BILLING CODE 6717-01-P